DEPARTMENT OF STATE

22 CFR Part 126

[Public Notice: 5740]

Amendment of the International Traffic in Arms Regulations: Policy With Respect to Vietnam

AGENCY: Department of State.

ACTION: Final rule.

SUMMARY: Notice is hereby given that the Department of State is amending the International Traffic in Arms Regulations (ITAR) regarding Vietnam at 22 CFR 126.1 to make it United States policy to consider on a case-by-case basis licenses, other approvals, exports or imports of non-lethal defense articles and defense services destined for or originating in Vietnam. The United States will deny licenses, other approvals, exports or imports of lethal defense articles and services destined for or originating in Vietnam. Under this policy, the exports of lethal-end items, components of lethal-end items (unless those components are non-lethal, safety-of-use spare parts for lethal-end items), non-lethal crowd control defense articles and defense services, and night vision devices to end-users with a role in ground security will not be approved.

DATES: Effective Date: This rule is effective April 3, 2007.

ADDRESSES: Interested parties may submit comments at any time by any of the following methods:

• E-mail: DDTCResponseTeam@state.gov with an appropriate subject line.

• Mail: Department of State, Directorate of Defense Trade Controls, Office of Defense Trade Controls Policy, ATTN: Regulatory Change, 12th Floor, SA-1, Washington, DC 20522-0112.

• Fax: 202-261-8199.

• Hand Delivery or Courier (regular work hours only): Department of State, Directorate of Defense Trade Controls, Office of Defense Trade Controls Policy, ATTENTION: Regulatory Change, SA-1, 12th Floor, 2401 E Street, NW., Washington, DC 20037.

Persons with access to the Internet may also view this notice by going to the regulations.gov Web site at: http://www.regulations.gov/index.cfm.

FOR FURTHER INFORMATION CONTACT: Ann K. Ganzer, Office of Defense Trade Controls Policy, Department of State, 12th Floor, SA-1, Washington DC 20522-0112; Telephone 202-663-2792 or FAX 202-261-8199; e-mail: DDTCResponseTeam@state.gov. ATTN: Regulatory Change.

SUPPLEMENTARY INFORMATION: On November 2, 2006, the Secretary of State modified the U.S. arms transfer policy toward Vietnam allowing the sale, lease, export, or other transfer of non-lethal defense articles and defense services to the country. Subsequently, the President issued a determination December 29, 2006 that the furnishing of defense articles and services to Vietnam would strengthen the security of the United States and promote world peace.

The new policy will not permit the export or other transfer to Vietnam of: (a) Lethal end items, (b) components of lethal end items, unless those components are non-lethal, safety-of-use spare parts for lethal end items, (c) non-lethal crowd control defense articles and defense services, and (d) night vision devices to end-users with a role in ground security.

Regulatory Analysis and Notices

Administrative Procedure Act

This amendment involves a foreign affairs function of the United States and, therefore, is not subject to the procedures required by 5 U.S.C. 553 and 554.

Regulatory Flexibility Act

This rule does not require analysis under the Regulatory Flexibility Act.

Unfunded Mandates Act of 1995

This rule does not require analysis under the Unfunded Mandates Reform Act.

Small Business Regulatory Enforcement Fairness Act of 1996

This amendment has been found not to be a major rule within the meaning of the Small Business Regulatory Enforcement Fairness Act of 1996. It will not have substantial direct effects on the States, the relationship between the national Government and the States, or on the distribution of power and responsibilities among the various levels of government.

Executive Orders 12372 and 13132

It is determined that this rule does not have sufficient federalism implications to warrant application of the consultation provisions of Executive Orders 12372 and 13132.

Executive Order 12866

This amendment is exempt from review under Executive Order 12866, but has been reviewed internally by the Department of State to ensure consistency with the purposes thereof.

Paperwork Reduction Act

This rule does not impose any new reporting or recordkeeping requirements subject to the Paperwork Reduction Act, 44 U.S.C. Chapter 35.

List of Subjects in 22 CFR Part 126

Arms and munitions, Exports.

Accordingly, for the reasons set forth above, Title 22, Chapter I, Subchapter M, part 126 is amended as follows:

PART 126—GENERAL POLICIES AND PRACTICES

1. The authority citation for part 126 continues to read as follows:

Authority: Secs. 2, 38, 40, 42, and 71, Pub. L. 90-629, 90 Stat. 744 (22 U.S.C. 2752, 2778, 2780, 2791, and 2797); E.O. 11958, 42 FR 4311; 3 CFR, 1977 Comp., p. 79; 22 U.S.C. 2651a; 22 U.S.C. 287c; E.O. 12918, 59 FR 28205, 3 CFR, 1994 Comp., p. 899; Sec.1225, Pub. L. 108-375.

2. Section 126.1 is amended by revising paragraph (a) and adding paragraph (l) to read as follows:

§ 126.1 Prohibited exports and sales to certain countries.

(a) General. It is the policy of the United States to deny licenses and other approvals for exports and imports of defense articles and defense services, destined for or originating in certain countries. This policy applies to Belarus, Cuba, Iran, North Korea, Syria, and Venezuela. This policy also applies to countries with respect to which the United States maintains an arms embargo (e.g., Burma, China, Liberia, Somalia, and Sudan) or whenever an export would not otherwise be in furtherance of world peace and the security and foreign policy of the United States. Information regarding certain other embargoes appears elsewhere in this section. Comprehensive arms embargoes are normally the subject of a State Department notice published in the Federal Register. The exemptions provided in the regulations in this subchapter, except § 123.17 of this subchapter, do not apply with respect to articles originating in or for export to any proscribed countries, areas, or persons in this § 126.1.

* * * * *

(l) Vietnam. It is the policy of the United Sates to deny licenses, other approvals, exports or imports of defense articles and defense services destined for or originating in Vietnam except, on a case-by-case basis, for:

(1) Non-lethal defense articles and defense services, and

(2) Non-lethal, safety-of-use defense articles (e.g., cartridge actuated devices, propellant actuated devices and technical manuals for military aircraft for purposes of enhancing the safety of the aircraft crew) for lethal end-items.

For non-lethal defense end-items, no distinction will be made between Vietnam's existing and new inventory.

Dated: March 13, 2007.
Stephen D. Mull,
Acting Assistant Secretary for Political-Military Affairs, Department of State.

[FR Doc. E7-6149 Filed 4-2-07; 8:45 am]

BILLING CODE 4710-25-P